NATIONAL CREDIT UNION ADMINISTRATION

Sunshine Act; Notice of Agency Meeting

TIME AND DATE: 10:00 a.m., Thursday, February 21, 2013.

PLACE: Board Room, 7th Floor, Room 7047, 1775 Duke Street (All visitors must use Diagonal Road Entrance), Alexandria, VA 22314-3428.

STATUS: Open.

MATTERS TO BE CONSIDERED:

1. NCUA's Rules and Regulations, Expanded Definition of “Rural District” for Field of Membership.

2. NCUA's Rules and Regulations, Permissible Investments—Treasury Inflation Protected Securities.

3. Quarterly Insurance Fund Report.

RECESS: 11:00 a.m.

TIME AND DATE: 11:15 a.m., Thursday, February 21, 2013.

PLACE: Board Room, 7th Floor, Room 7047, 1775 Duke Street, Alexandria, VA 22314-3428.

STATUS: Closed.

MATTERS TO BE CONSIDERED:

1. Supplemental Standards of Ethical Conduct for Employees of the National Credit Union Administration. Closed pursuant to exemptions (2) and (6).

FOR FURTHER INFORMATION CONTACT: Mary Rupp, Secretary of the Board, Telephone: 703-518-6304.

Mary Rupp,
Board Secretary.

[FR Doc. 2013-03846 Filed 2-14-13; 4:15 pm]

BILLING CODE 7535-01-P